DEPARTMENT OF THE INTERIOR

Fish and Wildlife Service

Construction of Six Single-Family Homes in Volusia County, FL

AGENCY: Fish and Wildlife Service, Interior.

ACTION: Notice: receipt of applications for five incidental take permits; request for comments.

SUMMARY: We, the Fish and Wildlife Service (Service), announce the availability of five Incidental Take Permit (ITP) Applications and Habitat Conservation Plans (HCPs) from the following four applicants: Formosa Homes, Inc., LaPalma Construction, Inc., Vincent Scorpio, and Today Homes Development, Inc. Each requests one or more ITPs for a duration of 2 years under section 10(a)(1)(B) of the Endangered Species Act of 1973, as amended (Act). The applicants collectively anticipate taking a total of approximately 1.5 acres (ac) of Florida scrub-jay (Alphelocoma coerulescens)—occupied habitat incidental to constructing six single-family homes in Volusia County, Florida (Projects). The applicants' HCPs describe the mitigation and minimization measures the applicants propose to address the effects of the Projects to the scrub-jay.

DATES: We must receive any written comments on the ITP applications and HCPs on or before April 9, 2007.

ADDRESSES: If you wish to review the applications and HCPs, you may write the Field Supervisor at our Jacksonville Field Office, 6620 Southpoint Drive, South, Suite 310, Jacksonville, FL 32216, or make an appointment to visit during normal business hours. If you wish to comment, you may mail or hand deliver comments to the Jacksonville Field Office, or you may e-mail comments to paula_sisson@fws.gov. For more information on reviewing documents and public comments and submitting comments, see SUPPLEMENTARY INFORMATION.

FOR FURTHER INFORMATION CONTACT: Paula Sisson, Fish and Wildlife Biologist, Jacksonville Field Office (see ADDRESSES); telephone: 904/232-2580, ext. 126.

SUPPLEMENTARY INFORMATION:

Public Review and Comment

Please reference permit numbers TE135675-0 for Formosa Homes, Inc.; TE145181-0 for LaPalma Construction, Inc.; TE143409-0 for Victor Scorpio; and TE143407-0 and TE143408-0 for Today Homes Development, Inc., in all requests or comments. Please include your name and return address in your e-mail message. If you do not receive a confirmation from us that we have received your e-mail message, contact us directly at the telephone number listed under FOR FURTHER INFORMATION CONTACT. Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Background

The Florida scrub-jay (scrub-jay) is found exclusively in peninsular Florida and is restricted to xeric uplands (predominately in oak-dominated scrub). Increasing urban and agricultural development has resulted in habitat loss and fragmentation, which have adversely affected the distribution and numbers of scrub-jays.

The total estimated population is between 7,000 and 11,000 individuals. The decline in the number and distribution of scrub-jays in east-central Florida has been exacerbated by tremendous urban growth in the past 50 years. Much of the historic commercial and residential development has occurred on the dry soils which previously supported scrub-jay habitat. Much of this area of Florida was settled early because few wetlands restricted urban and agricultural development. Due to the effects of urban and agricultural development over the past 100 years, much of the remaining scrub-jay habitat is now relatively small and isolated. What remains is largely degraded due to the exclusion of fire, which is needed to maintain xeric uplands in conditions suitable for scrub-jays.

Applicants' Proposals

The four (4) applicants are requesting take of approximately 1.5 ac of combined occupied scrub-jay habitat incidental to the construction of six single-family homes in Volusia County, Florida. Residential construction for one single-family home for Formosa Homes, Inc., is located within parcel #8115-00-00-0204, in Deltona, Florida. Residential construction for two single-family homes for LaPalma Construction, Inc., would occur within parcel #8009-05-04-0010; one single-family home for Vincent Scorpio would be located within parcel #8009-05-19-0400; and two single-family homes for Today Homes, Inc., would be located within parcels #8009-02-15-0190 and #8009-02-14-0340. All are located in Orange City, Florida.

The lots combined encompass about 1.5 ac, and the footprint of the homes,infrastructure, and landscaping preclude retention of scrub-jay habitat. In order to minimize take on site, the applicants propose to mitigate for the loss of 1.5 ac of scrub-jay habitat by contributing a total of $70,974 ($12,045 from Formosa Homes, Inc.; $22,726 from LaPalma Construction, Inc.; $11,363 from Scorpio; and $24,840 from Today Homes, Inc.) to the Florida Scrub-jay Conservation Fund administered by The Nature Conservancy. Funds in this account are earmarked for use in the conservation and recovery of scrub-jays and may include habitat acquisition, restoration, and/or management.

We have determined that the applicants' proposals, including the proposed mitigation and minimization measures, would have minor or negligible effects on the species covered in the HCPs. Therefore, the ITPs are “low-effect” projects and qualify for categorical exclusions under the National Environmental Policy Act (NEPA), as provided by the Department of the Interior Manual (516 DM 2 Appendix 1 and 516 DM 6 Appendix 1). This preliminary information may be revised based on our review of public comments that we receive in response to this notice. Low-effect HCPs are those involving (1) minor or negligible effects on federally listed or candidate species and their habitats, and (2) minor or negligible effects on other environmental values or resources.

We will evaluate the HCPs and comments submitted thereon to determine whether the applications meet the requirements of section 10(a) of the Act (16 U.S.C. 1531 et seq.). If we determine that the applications meet those requirements, we will issue the ITPs for incidental take of the Florida scrub-jay. We will also evaluate whether issuance of the section 10(a)(1)(B) ITPs complies with section 7 of the Act by conducting an intra-Service section 7 consultation. We will use the results of this consultation, in combination with the above findings, in the final analysis to determine whether or not to issue the ITPs.

Authority: We provide this notice under Section 10 of the Endangered Species Act and NEPA regulations (40 CFR 1506.6).

Dated: February 28, 2007.
David L. Hankla,
Field Supervisor, Jacksonville Field Office.

[FR Doc. E7-4135 Filed 3-7-07; 8:45 am]

BILLING CODE 4310-55-P